DEPARTMENT OF ENERGY

Federal Energy Regulatory Commission

Combined Notice of Filings #1

Take notice that the Commission received the following electric corporate filings:

Docket Numbers: EC25-27-000.

Applicants: Alabama Power Company, Tenaska Alabama Partners, L.P.

Description: Tenaska Alabama Partners, L.P. et al. submit response to FERC's 02/13/2025 Deficiency Letter.

Filed Date: 3/17/25.

Accession Number: 20250317-5229.

Comment Date: 5 p.m. ET 4/7/25.

Docket Numbers: EC25-65-000.

Applicants: GenOn Energy Management, LLC, Chalk Point Steam, LLC, GenOn Power Midwest, LP, Lanyard Power Holdings, LLC, Morgantown Power, LLC, Ormond Beach Power, LLC, Shawville Lessor Genco LLC.

Description: Joint Application for Authorization Under Section 203 of the Federal Power Act of GenOn Energy Management, LLC, et al.

Filed Date: 3/18/25.

Accession Number: 20250318-5202.

Comment Date: 5 p.m. ET 4/8/25.

Take notice that the Commission received the following exempt wholesale generator filings:

Docket Numbers: EG25-237-000.

Applicants: Star Light Energy Center, LLC.

Description: Star Light Energy Center, LLC submits Notice of Self-Certification of Exempt Wholesale Generator Status.

Filed Date: 3/19/25.

Accession Number: 20250319-5142.

Comment Date: 5 p.m. ET 4/9/25.

Docket Numbers: EG25-238-000.

Applicants: Panama Energy Center, LLC.

Description: Panama Energy Center, LLC submits Notice of Self-Certification of Exempt Wholesale Generator Status.

Filed Date: 3/19/25.

Accession Number: 20250319-5145.

Comment Date: 5 p.m. ET 4/9/25.

Take notice that the Commission received the following electric rate filings:

Docket Numbers: ER16-1887-002.

Applicants: Apple Energy LLC.

Description: Notice of Non-Material Change in Status of Apple Energy LLC.

Filed Date: 3/19/25.

Accession Number: 20250319-5137.

Comment Date: 5 p.m. ET 4/9/25.

Docket Numbers: ER20-1653-002; ER16-1496-002.

Applicants: Canadian Hills Wind, LLC, Kingfisher Wind, LLC.

Description: Updated Market Power Analysis for Southwest Power Pool Inc. Region of Kingfisher Wind, LLC, et al.

Filed Date: 3/17/25.

Accession Number: 20250317-5249.

Comment Date: 5 p.m. ET 4/7/25.

Docket Numbers: ER20-2998-001; ER20-2997-001; ER20-1983-002; ER21-2429-002; ER20-1981-002.

Applicants: Pioneer Solar (CO), LLC, Tulare Solar Center, LLC, Central 40, LLC,RE Mustang Two Whirlaway LLC, RE Mustang Two Barbaro LLC.

Description: Notice of Non-Material Change in Status of RE Mustang Two Barbaro LLC, et al.

Filed Date: 3/17/25.

Accession Number: 20250317-5247.

Comment Date: 5 p.m. ET 4/7/25.

Docket Numbers: ER25-1312-000.

Applicants: Cedar Bluff Wind Energy, LLC.

Description: Errata to 02/14/2025 Cedar Bluff Wind Energy, LLC tariff filing.

Filed Date: 3/17/25.

Accession Number: 20250317-5252.

Comment Date: 5 p.m. ET 4/7/25.

Docket Numbers: ER25-1338-001.

Applicants: Flat Fork Solar, LLC.

Description: Tariff Amendment: Flat Fork Solar, LLC Errata to Application for MBR Authorization (ER25-1338-) to be effective 4/20/2025.

Filed Date: 3/19/25.

Accession Number: 20250319-5152.

Comment Date: 5 p.m. ET 4/9/25.

Docket Numbers: ER25-1339-001.

Applicants: Forgeview Solar, LLC.

Description: Tariff Amendment: Forgeview Solar, LLC Errata to Application for MBR Authorization (ER25-1339-) to be effective 4/20/2025.

Filed Date: 3/19/25.

Accession Number: 20250319-5158.

Comment Date: 5 p.m. ET 4/9/25.

Docket Numbers: ER25-1340-001.

Applicants: Wildwood Solar, LLC.

Description: Tariff Amendment: Wildwood Solar, LLC Errata to Application for MBR Authorization (ER25-1340-) to be effective 4/20/2025.

Filed Date: 3/19/25.

Accession Number: 20250319-5161.

Comment Date: 5 p.m. ET 4/9/25.

Docket Numbers: ER25-1700-000.

Applicants: Duke Energy Progress, LLC, Duke Energy Carolinas, LLC.

Description: § 205(d) Rate Filing: Duke Energy Carolinas, LLC submits tariff filing per 35.13(a)(2)(iii: Revisions to Joint OATT Formula Transmission Rates-Recovery of 2024 Storm Costs to be effective 5/18/2025.

Filed Date: 3/18/25.

Accession Number: 20250318-5164.

Comment Date: 5 p.m. ET 4/8/25.

Docket Numbers: ER25-1701-000.

Applicants: CED Westside Canal Battery Storage, LLC.

Description: Tariff Amendment: CED Westside Canal Battery Storage Notice of MBR Cancellation to be effective 3/19/2025.

Filed Date: 3/18/25.

Accession Number: 20250318-5182.

Comment Date: 5 p.m. ET 4/8/25.

Docket Numbers: ER25-1702-000.

Applicants: Mid-Atlantic Interstate Transmission, LLC.

Description: § 205(d) Rate Filing: MAIT submits Construction Agmnt, SA No. 7537 to be effective 5/19/2025.

Filed Date: 3/19/25.

Accession Number: 20250319-5029.

Comment Date: 5 p.m. ET 4/9/25

Docket Numbers: ER25-1703-000.

Applicants: ISO New England Inc., New England Power Pool Participants Committee.

Description: Compliance filing: ISO New England Inc. submits tariff filing per 35: ISO-NE and NEPOOL; Revisions in Compliance with Order No. 904 to be effective 12/31/9998.

Filed Date: 3/19/25.

Accession Number: 20250319-5097.

Comment Date: 5 p.m. ET 4/9/25.

Docket Numbers: ER25-1704-000.

Applicants: Duke Energy Florida, LLC, Duke Energy Carolinas, LLC.

Description: Compliance filing: Duke Energy Carolinas, LLC submits tariff filing per 35: DEF—Order No. 904 Compliance Filing Containing Revisions to Attachment J to be effective 6/1/2025.

Filed Date: 3/19/25.

Accession Number: 20250319-5103.

Comment Date: 5 p.m. ET 4/9/25.

Docket Numbers: ER25-1705-000.

Applicants: PJM Interconnection, L.L.C.

Description: § 205(d) Rate Filing: Original GIA SA No. 7590 & Cancellation of IISA No. 6615; AF2-205 to be effective 2/17/2025.

Filed Date: 3/19/25.

Accession Number: 20250319-5104.

Comment Date: 5 p.m. ET 4/9/25.

Docket Numbers: ER25-1706-000.

Applicants: NorthWestern Corporation.

Description: § 205(d) Rate Filing: SA 1013—Firm PTP Trans. Service with Puget Sound Energy to be effective 4/1/2025.

Filed Date: 3/19/25.

Accession Number: 20250319-5110.

Comment Date: 5 p.m. ET 4/9/25.

Docket Numbers: ER25-1707-000.

Applicants: Duke Energy Progress, LLC, Duke Energy Carolinas, LLC.

Description: Compliance filing: Duke Energy Carolinas, LLC submits tariff filing per 35: DEC-DEP Order No. 904 Compliance Filing Containing Revisions to Attachment K to be effective 6/1/2025.

Filed Date: 3/19/25.

Accession Number: 20250319-5112.

Comment Date: 5 p.m. ET 4/9/25.

Docket Numbers: ER25-1708-000.

Applicants: Duke Energy Progress, LLC, Duke Energy Florida, LLC, Duke Energy Carolinas, LLC.

Description: Compliance filing: Duke Energy Carolinas, LLC submits tariff filing per 35: DEC-DEP-DEF Order No. 904 Compliance Filing Revisions to Schedule 2 & Att M to be effective 6/1/2025.

Filed Date: 3/19/25.

Accession Number: 20250319-5148.

Comment Date: 5 p.m. ET 4/9/25.

Docket Numbers: ER25-1709-000.

Applicants: PJM Interconnection, L.L.C.

Description: § 205(d) Rate Filing: Original GIA Service Agreement No. 7587; Project Identifier No. AF2-132 to be effective 2/17/2025.

Filed Date: 3/19/25.

Accession Number: 20250319-5169.

Comment Date: 5 p.m. ET 4/9/25.

Take notice that the Commission received the following electric securities filings:

Docket Numbers: ES25-36-000.

Applicants: Midcontinent Independent System Operator, Inc.

Description: Application Under Section 204 of the Federal Power Act for Authorization to Issue Securities of Midcontinent Independent System Operator, Inc.

Filed Date: 3/14/25.

Accession Number: 20250314-5359.

Comment Date: 5 p.m. ET 4/4/25.

Take notice that the Commission received the following qualifying facility filings:

Docket Numbers: QF25-349-000.

Applicants: PG Solar LLC.

Description: Refund Report of PG Solar LLC.

Filed Date: 2/28/25.

Accession Number: 20250228-5480.

Comment Date: 5 p.m. ET 4/9/25.

The filings are accessible in the Commission's e-Library system by clicking on the links or querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: March 19, 2025.
Carlos D. Clay,
Deputy Secretary.

[FR Doc. 2025-05100 Filed 3-25-25; 8:45 am]

BILLING CODE 6717-01-P